TENNESSEE VALLEY AUTHORITY

Notice of Sunshine Act Meeting

April 14, 2011; Meeting No. 11-02

The TVA Board of Directors will hold a public meeting on April 14, 2011, at the Chattanooga Office Complex, 1101 Market Street, Chattanooga, Tennessee, to consider the matters listed below. The public may comment on any agenda item or subject at a public listening session which begins at 8:30 a.m. (ET). Immediately following the end of the public listening session, the meeting will be called to order to consider the agenda items listed below. Please Note: Speakers must pre-register online at TVA.gov or sign in before the meeting begins at 8:30 a.m. (ET) on the day of the meeting. The Board will answer questions from the news media following the Board meeting.

Status: Open.

Agenda

Chairman's Report

A. Welcome.

B. Nuclear Safety Review.

Old Business

Approval of minutes of February 18, 2011, Board Meeting.

New Business

1. President's Report.

2. Selection of Chairman.

3. Integrated Resource Plan.

4. TVA Environmental Future and Implementing Agreements.

5. Report of the Nuclear Oversight Committee.

6. Report of the Audit, Risk, and Regulation Committee.

A. Board's Role as Regulator.

7. Report of the Customer and External Relations Committee.

8. Report of the People and Performance Committee.

9. Report of the Finance, Rates, and Portfolio Committee.

A. Valley Investment Initiative—Eligibility Pilot Program.

B. Power Contracts.

C. Transformer Contracts.

D. Bellefonte Nuclear Plant—Extension of Decision and Budget.

E. Coal Combustion Product Process Conversions.

For more information: Please call TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: April 7, 2011.
Clifford L. Beach, Jr.,
Assistant General Counsel.

[FR Doc. 2011-8810 Filed 4-8-11; 4:15 pm]

BILLING CODE 8120-08-P